DEPARTMENT OF LABOR

Employment and Training Administration

[NAFTA-4848]

Newport Steel Corporation, Newport, KY; Notice of Negative Determination Regarding Application for Reconsideration

By application dated June 17, 2001, a former employee requested administrative reconsideration of the Department's negative determination regarding eligibility to apply for North American Free Trade Agreement—Transitional Adjustment Assistance (NAFTA-TAA), applicable to workers and former workers of the subject firm. The denial notice was signed on May 14, 2001, and was published in the Federal Register on May 25, 2001 (66 FR 28928).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The denial of NAFTA-TAA for workers engaged in activities related to the production of steel pipe at Newport Steel Corporation, Newport, Kentucky, was based on the finding that criteria (3) and (4) of the group eligibility requirements of paragraph (a)(1) of section 250 of the Trade Act, as amended, were not met. There were no company imports of steel pipe from Mexico or Canada, nor did Newport Steel Corporation shift production from Newport, Kentucky to Mexico or Canada. Layoffs at the subject firm were related to outsourcing the raw material (steel coils) from domestic suppliers used to produce the steel pipe produced at the plant.

The petitioner claims that layoffs occurred in the melt shop, which made the steel that was used in the production of steel pipe at the plant. The petition further adds that Newport Steel Corporation is purchasing steel coils from domestic and foreign suppliers.

The petitioner attached documents from the American Iron and Steel Institute, which were March 2001 trade data for steel mill products and a June 12, 2001, press release regarding April 2001 U.S. shipments of steel.

Review of the investigation record shows that during 1999, 2000, and in January through March 2001, Newport Steel Corporation did not purchase any imports of articles from Mexico or Canada like or directly competitive with those produced at the Newport, Kentucky plant. Furthermore, as to steel industry data, the NAFTA-TAA petition investigation is conducted with respect to articles like or directly competitive with those produced at the workers' firm, not on a company-wide or industry-wide basis.

Conclusion

After review of the application and investigative findings, I conclude that there has been no error or misinterpretation of the law or of the facts which would justify reconsideration of the Department of Labor's prior decisions. Accordingly, the application is denied.

Signed at Washington, DC this 5th day of September 2001.
Edward A. Tomchick,
Director, Division of Trade Adjustment Assistance.

[FR Doc. 01-23530 Filed 9-20-01; 8:45 am]

BILLING CODE 4510-30-M